DEPARTMENT OF THE TREASURY

Submission for OMB Review; Comment Request

May 21, 2014.

The Department of the Treasury will submit the following information collection requests to the Office of Management and Budget (OMB) for review and clearance in accordance with the Paperwork Reduction Act of 1995, Public Law 104-13, on or after the date of publication of this notice.

DATES: Comments should be received on or before June 26, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission(s) may be obtained by emailing PRA@treasury.gov, calling (202) 622-1295, or viewing the entire information collection request at www.reginfo.gov.

Internal Revenue Service (IRS)

OMB Number: 1545-2187.

Type of Review: Extension without change of a currently approved collection.

Title: Annual Registration Statement Identifying Separated Participants with Deferred Vested Benefits.

Form: Form 8955-SSA.

Abstract: Form 8955-SSA, the designated successor to Schedule SSA (Form 5500), is used to satisfy the reporting requirements of Internal Revenue Code section 6057(a). Plan administrators of employee benefit plans subject to the vesting standards of ERISA section 203 use the form to report information about separated participants with deferred vested benefits under the plan. The information is generally given to the Social Security Administration (SSA), which provides the reported information to separated participants when they file for social security benefits.

Affected Public: Businesses or other for-profit organizations.

Estimated Annual Burden Hours: 166,000.

OMB Number: 1545-2195.

Type of Review: Revision of a currently approved collection.

Title: Statement of Specified Foreign Financial Assets.

Form: Form 8938.

Abstract: A taxpayer uses Form 8938 to report specified foreign financial assets if the total value of all the specified foreign financial assets in which the taxpayer has an interest is more than the appropriate reporting threshold.

Affected Public: Individuals or households.

Estimated Annual Burden Hours: 1,627,500.

Brenda Simms,
Treasury PRA Clearance Officer.

[FR Doc. 2014-12143 Filed 5-23-14; 8:45 am]

BILLING CODE 4830-01-P